DEPARTMENT OF COMMERCE

National Oceanic and Atmospheric Administration

RIN 0648-XE115

Pacific Fishery Management Council; Public Meeting

AGENCY: National Marine Fisheries Service (NMFS), National Oceanic and Atmospheric Administration (NOAA), Commerce.

ACTION: Notice of public meeting (webinar).

SUMMARY: The Pacific Fishery Management Council (Pacific Council) will convene a joint webinar meeting of its Coastal Pelagic Species Management Team (CPSMT) and Coastal Pelagic Species Advisory Subpanel (CSPAS). The meeting is open to the public.

DATES: The webinar meeting will be held Thursday, September 3, 2015, from 1 p.m. to 3 p.m. Pacific Daylight Time.

ADDRESSES: To attend the webinar, visit: http://www.gotomeeting.com/online/webinar/join-webinar. Enter the Webinar ID, which is 104-871-531, and your name and email address (required). Participants are encouraged to use their telephone, as this is the best practice to avoid technical issues and excessive feedback (see the PFMC GoToMeeting Audio Diagram for best practices). Please use your telephone for the audio portion of the meeting by dialing this TOLL number 1+951-384-3421 (not a toll-free number); then enter the Attendee phone audio access code: 468-846-695; then enter your audio phone pin (shown after joining the webinar). System Requirements for PC-based attendees: Required: Windows® 7, Vista, or XP; for Mac®-based attendees: Required: Mac OS® X 10.5 or newer; and for mobile attendees: iPhone®, iPad®, Android™ phone or Android tablet (See the GoToMeeting Webinar Apps).

You may send an email to Mr. Kris Kleinschmidt or contact him at (503) 820-2280, extension 425 for technical assistance. A public listening station will be available at the Pacific Council office.

Council address: Pacific Fishery Management Council, 7700 NE. Ambassador Place, Suite 101, Portland, OR 97220.

FOR FURTHER INFORMATION CONTACT: Kerry Griffin, Staff Officer; telephone: (503) 820-2409.

SUPPLEMENTARY INFORMATION: The primary purpose of the meeting is to discuss agenda items on the September 2015 Pacific Council meeting agenda and to discuss future meeting plans. Action will be restricted to those issues specifically listed in this notice and any issues arising after publication of this notice that require emergency action under Section 305(c) of the Magnuson-Stevens Fishery Conservation and Management Act, provided the public has been notified of the CPSMT and CPSAS' intent to take final action to address the emergency.

Special Accommodations

The public listening station is physically accessible to people with disabilities. Requests for sign language interpretation or other auxiliary aids should be directed to Mr. Kris Kleinschmidt (503) 820-2280 at least 5 days prior to the meeting date.

Dated: August 12, 2015.
Tracey L. Thompson,
Acting Deputy Director, Office of Sustainable Fisheries, National Marine Fisheries Service.

[FR Doc. 2015-20207 Filed 8-14-15; 8:45 am]

BILLING CODE 3510-22-P